DEPARTMENT OF ENERGY

Federal Energy Regulatory Commission

[Docket No. EC01-137-000, et al.]

DTE Energy Company, et al.; Electric Rate and Corporate Regulation Filings

August 17, 2001.

Take notice that the following filings have been made with the Commission:

1. DTE Energy Company, International Transmission Company

[Docket No. EC01-137-000]

Take notice that on August 10, 2001, DTE Energy Company and International Transmission Company tendered a joint application for authority to dispose of jurisdictional transmission facilities pursuant to section 203 of the Federal Power Act in accordance with the Commission's directive in International Transmission Co., 92 FERC 61,276 (2000).

Comment date: August 31, 2001, in accordance with Standard Paragraph E at the end of this notice.

2. Wisconsin Power and Light Company, Wisconsin Public Service Corporation

[Docket No. EC01-138-000]

Take notice that on August 9, 2001, Wisconsin Power and Light Company (WPL) and Wisconsin Public Service Corporation (WPSC) (collectively, the Applicants) filed an application under the provisions of Section 203 of the Federal Power Act for WPL to purchase a portion of WPSC's common equity interest in the Wisconsin River Power Company.

The Applicants state that copies of this application were served on the Public Service Commission, the Michigan Public Service Commission, the Illinois Commerce Commission, the U.S. Department of Justice, the Federal Trade Commission and Consolidated Water Power Company.

Comment date: August 29, 2001, in accordance with Standard Paragraph E at the end of this notice.

3. Southern Indiana Gas and Electric Company

[Docket No. EC01-139-000]

Take notice that on August 8, 2001, Southern Indiana Gas and Electric Company (SIGECO) filed with the Federal Energy Regulatory Commission an application pursuant to section 203 of the Federal Power Act for authorization of a disposition of jurisdictional facilitates whereby the SIGECO will transfer operational control of substantial portions of its jurisdictional transmission facilities to the Midwest Independent System Operator, Inc.

Comment date: August 29, 2001, in accordance with Standard Paragraph E at the end of this notice.

4. Mesquite Investors, L.L.C., Shady Hills Holding Company, L.L.C., Shady Hills Power Company, L.L.C., West Georgia Generating Company, L.L.C., Mirant Americas, Inc.

[Docket No. EC01-140-000]

Take notice that on August 14, 2001, Mesquite Investors, L.L.C. (Mesquite), Shady Hills Holding Company, L.L.C. (Shady Hills), Shady Hills Power Company, L.L.C. (Shady Hills Power), West Georgia Generating Company, L.L.C. (West Georgia), and Mirant Americas, Inc. (Mirant) (jointly Applicants) filed with the Federal Energy Regulatory Commission an application pursuant to Section 203 of the Federal Power Act for authorization of a disposition of jurisdictional facilities whereby Shady Hills will transfer its member interests in Shady Hills Power to Mirant and Mesquite will transfer its member interests in West Georgia to Mirant. Shady Hills Power owns a 480 MW generating facility under construction in New Port Richey, Florida. West Georgia owns and operates a 640 MW generating facility in Thomaston, Georgia. Applicants also request privileged treatment for certain exhibits pursuant to 18 CFR 33.9 and 388.112.

Comment date: September 4, 2001, in accordance with Standard Paragraph E at the end of this notice.

5. Richmond County Power, LLC

[Docket Nos. ER01-1417-002]

Take notice that on August 13, 2001, Richmond County Power, LLC tendered a compliance filing for authorization to sell energy, capacity and ancillary services at market-based rates.

Comment date: September 4, 2001, in accordance with Standard Paragraph E at the end of this notice.

6. Alliant Energy Corporate Services, Inc.

[Docket No. ER01-2207-002]

Take notice that on August 13 , 2001, Alliant Energy Corporate Services, Inc. tendered for filing a notice concerning the Commission's Order regarding the Incorporation of NERC Transmission Loading Relief Procedures, which were issued in ER01-2207-000.

A copy of this filing has been served upon the Illinois Commerce Commission, the Minnesota Public Utilities Commission, the Iowa Department of Commerce, and the Public Service Commission of Wisconsin.

Comment date: September 4, 2001, in accordance with Standard Paragraph E at the end of this notice.

7. Pro-Energy Development, LLC

[Docket No. ER01-2463-001

Take notice that on August 13, 2001, Pro Energy Development LLC petitioned the Commission for acceptance of Pro Energy Development LLC Rate Schedule FERC No.1; the granting of certain blanket approvals, including the authority to sell electricity at market based rates; and the waiver of certain Commission regulations.

Pro Energy Development LLC intends to engage in wholesale electric power and energy purchases and sales as a marketer. Pro Energy Development LLC is not in the business of generating or transmitting electric power.

Comment date: September 4, 2001, in accordance with Standard Paragraph E at the end of this notice.

8. Ameren Energy, Inc., on behalf of Union Electric Company d/b/a AmerenUE, Ameren Energy Marketing Company and Ameren Energy Generating Company

[Docket No. ER01-2500-000

Take notice that on August 13, 2001, Ameren Energy, Inc. (Ameren Energy), on behalf of Union Electric Company d/b/a AmerenUE, Ameren Energy Market Company, and Ameren Energy Generating Company (collectively, the Ameren Parties), pursuant to section 205 of the Federal Power Act, 16 U.S.C. 824d, filed a Notice of Withdrawal of a proposed pro forma umbrella power sales service agreement under the Ameren Parties' market rate authorizations that was filed in this proceeding on July 3, 2001. Ameren Energy states that no parties have intervened in this proceeding or protested the July 3 Filing, and that no party will be prejudiced or otherwise affected by the withdrawal. Ameren Energy requests that the Commission accept the Notice of Withdrawal effective as of July 4, 2001.

Copies of this filing were served on the public utilities commissions of Illinois and Missouri, and on all parties on the Commission's official service list in this proceeding.

Comment date: September 4, 2001, in accordance with Standard Paragraph E at the end of this notice.

9. Canastota Windpower, LLC

[Docket No. ER01-2692-001]

Canastota Windpower LLC (Canastota) filed an Amendment and Restated petition to the Commission on August 13, 2001, for authority to sell electricity at market-based rates under Section 205(a) of the Federal Power Act, 16 U.S.C. 824d(a); for granting of certain blanket approvals and for the waiver of certain Commission regulations. Canastota is a limited liability company that proposes to engage in the wholesale sale of electric power in the State of New York.

Comment date: September 4, 2001, in accordance with Standard Paragraph E at the end of this notice.

10. Arizona Public Service Company

[Docket No. ER01-2826-000]

Take notice that on August 13, 2001, Arizona Public Service Company (APS) tendered for filing umbrella Service Agreements to provide Short-Term Firm and Non-Firm Point-to-Point Transmission Service to PPL EnergyPlus, LLC under APS' Open Access Transmission Tariff.

A copy of this filing has been served on PPL EnergyPlus, LLC and the Arizona Corporation Commission.

Comment date: September 4, 2001, in accordance with Standard Paragraph E at the end of this notice.

11. UtiliCorp United Inc.

[Docket No. ER01-2827-000]

Take notice that on August 13, 2001, UtiliCorp United Inc. tendered for filing amendments to the open access transmission tariffs for its Missouri Public Service, WestPlains Energy-Kansas, and St. Joseph Power & Light operating divisions. The amendments incorporate the Mid-Continent Area Power Pool Transmission Loading Relief procedures for curtailments of firm transmission.

Comment date: September 4, 2001, in accordance with Standard Paragraph E at the end of this notice.

12. Ameren Services Company

[Docket No. ER01-2828-000]

Take notice that on August 13, 2001, Ameren Services Company (ASC) tendered for filing Service Agreements for Firm Point-to-Point Transmission Service Agreements and Non-Firm Point-to-Point Transmission Service Agreements between ASC and Calpine Energy Services, L.P. and Exelon Generation Company, LLP (the parties). ASC asserts that the purpose of the Agreements is to permit ASC to provide transmission service to the parties pursuant to Ameren's Open Access Transmission Tariff.

Comment date: September 4, 2001, in accordance with Standard Paragraph E at the end of this notice.

13. Progress Energy Inc. On behalf of Carolina Power & Light Company

[Docket No. ER01-2829-000]

Take notice that on August 13, 2001, Carolina Power & Light Company (CP&L) tendered for filing an executed Service Agreement between CP&L and the following eligible buyer, Enron Power Marketing, LLC. Service to this eligible buyer will be in accordance with the terms and conditions of CP&L's Market-Based Rates Tariff, FERC Electric Tariff No. 4, for sales of capacity and energy at market-based rates. Copies of the filing were served upon the North Carolina Utilities Commission and the South Carolina Public Service Commission.

CP&L requests an effective date of July 15, 2001 for this Service Agreement.

Comment date: September 4, 2001, in accordance with Standard Paragraph E at the end of this notice.

14. Roseburg Forest Products Company

[Docket No. ER01-2830-000]

Take notice that on August 13, 2001, Roseburg Forest Products Company (RFP) petitioned the Federal Energy Regulatory Commission for acceptance of Roseburg Forest Products Rate Schedule FERC No. 1; the granting of certain blanket approvals, including the authority to sell electricity at market-based rates; and the waiver of certain Commission regulations.

RFP intends to engage in wholesale electric power and energy sales as an independent power producer. RFP owns a 40 MW hog fuel facility in Dillard, Oregon (RFP Powerhouse). Other than the RFP Powerhouse, RFP is not engaged in the generation or transmission of electric power for sale at wholesale. RFP is a type C Corporation organized under the laws of the state of Oregon.

Comment date: September 4, 2001, in accordance with Standard Paragraph E at the end of this notice.

15. Tampa Electric Company

[Docket No. ER01-2831-000]

Take notice that on August 13, 2001, Tampa Electric Company (Tampa Electric) filed notices of cancellation of: (1) its Contract for the Purchase and Sale of Power and Energy with NP Energy Inc. (NP Energy); and (2) the Service Agreement with NP Energy for non-firm point-to-point transmission service under Tampa Electric's open access transmission tariff.

Tampa Electric proposes that the cancellations be made effective on August 13, 2001, and therefore requests waiver of the Commission's notice requirement.

Comment date: September 4, 2001, in accordance with Standard Paragraph E at the end of this notice.

16. Alcoa Power Generating Inc.

[Docket No. ER01-2832-000]

Take notice that on August 13, 2001, Alcoa Power Generating Inc. (APGI) tendered for filing a service agreement between Tenaska Power Services Co. (Tenaska) and APGI under APGI's Market Rate Tariff. This Tariff was accepted for filing by the Commission on July 13, 1999, in Docket No. ER99-2932-000. The service agreement with Tenaska is proposed to be effective August 1, 2001.

Comment date: September 4, 2001, in accordance with Standard Paragraph E at the end of this notice.

17. Allegheny Energy Service Corporation, On Behalf of Monongahela Power Company, The Potomac Edison Company, and West Penn Power Company (Allegheny Power)

[Docket No. ER01-2833-000]

Take notice that on August 14, 2001, Allegheny Energy Service Corporation on behalf of Monongahela Power Company, The Potomac Edison Company and West Penn Power Company (Allegheny Power), filed Service Agreement Nos. 359 and 360 to add Exelon Generation Company, LLC to Allegheny Power's Open Access Transmission Service Tariff which has been accepted for filing by the Federal Energy Regulatory Commission in Docket No. ER96-58-000.

The proposed effective date under the Service Agreements is September 1, 2001 or a date ordered by the Commission. Copies of the filing have been provided to the Public Utilities Commission of Ohio, the Pennsylvania Public Utility Commission, the Maryland Public Service Commission, the Virginia State Corporation Commission, and the West Virginia Public Service Commission.

Comment date: September 4, 2001, in accordance with Standard Paragraph E at the end of this notice.

18. Progress Energy On Behalf of Florida Power Corporation

[Docket No. ER01-2834-000]

Take notice that on August 14, 2001, Florida Power Corporation (FPC) filed a Service Agreement with Enron Power Marketing, Inc. under FPC's Short-Form Market-Based Wholesale Power Sales Tariff (SM-1), FERC Electric Tariff No. 10. A copy of this filing was served upon the Florida Public Service Commission.

FPC is requesting an effective date of July 15, 2001 for this Agreement.

Comment date: September 4, 2001, in accordance with Standard Paragraph E at the end of this notice.

19. Florida Power & Light Company

[Docket No. ER01-2835-000]

Take notice that on August 14, 2001 Florida Power & Light Company (FPL) tendered for filing proposed service agreements with Western Resources, Inc. for Non-Firm transmission service and Firm transmission service under FPL's Open Access Transmission Tariff. FPL states that this filing is in accordance with Section 35 of the Commission's regulations.

FPL requests that the proposed service agreements become effective on August 1, 2001.

Comment date: September 4, 2001, in accordance with Standard Paragraph E at the end of this notice.

20. Xcel Energy Services, Inc.

[Docket No. ER01-2837-000]

Take notice that on August 13, 2001, Xcel Energy Services Inc. (XES), on behalf of Public Service Company of Colorado (Public Service), submitted for filing a Short-Term Firm Point-to-Point Transmission Service Agreement between Public Service and Salt River Project under Xcel's Joint Open Access Transmission Service Tariff (Xcel FERC Electric Tariff, Original Volume No. 1). XES requests that this agreement, designated as Original Service Agreement No. 105-PSCo, become effective on June 12, 2001.

Comment date: September 4, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21376 Filed 8-23-01; 8:45 am]

BILLING CODE 6717-01-P